DEPARTMENT OF JUSTICE

National Institute of Corrections

Advisory Board Meeting

Time and Date: 8 a.m. to 4 p.m. on Monday, April 4, 2005, 8 a.m. to 12 p.m. on Tuesday, April 5, 2005.

Place: The Renaissance Worthington Hotel, 200 Main Street, Fort Worth, Texas 76102.

Status: Open.

Matters to be Considered: Mentally Ill Offender; Faith-Based Programs Prison Rape Elimination Act (PREA); Quarterly Report by Office of Justice Programs.

For Further Information Contact:

Larry Solomon, Deputy Director, 202-307-3106, ext. 44254.

Morris L. Thigpen,
Director.

[FR Doc. 05-5234 Filed 3-16-05; 8:45 am]

BILLING CODE 4410-36-M